DEPARTMENT OF COMMERCE

Submission for OMB Review; Comment Request

The Department of Commerce will submit to the Office of Management and Budget (OMB) for clearance the following proposal for collection of information under the provisions of the Paperwork Reduction Act (44 U.S.C. chapter 35).

Agency: Economic Development Administration (EDA).

Title: Application for Investment Assistance.

OMB Control Number: 0610-0094.

Form Number(s): ED-900.

Type of Request: Regular submission (revision of a currently approved information collection).

Number of Respondents: 1,261.

Average Hours per Response: 23 hours and 45 minutes.

Burden Hours: 29,949.

Needs and Uses: The Application for Investment Assistance is required to apply for EDA investment assistance under its Public Works, Economic Adjustment, Technical Assistance, Research, and Planning programs. This collection of information is required to ensure that the application meets the requirements for EDA assistance set out in EDA's regulations at 13 CFR Chapter III.

Revision: The Trade Adjustment Assistance for Communities program was removed from the collection.

Affected Public: Not-for-profit institutions; Federal government; State, local, or tribal government.

Frequency: On occasion.

Respondent's Obligation: Mandatory.

OMB Desk Officer: Nicholas Fraser.

Copies of the above information collection proposal can be obtained by calling or writing Jennifer Jessup, Departmental Paperwork Clearance Officer,, (202) 482-0336, Department of Commerce, Room 6616, 14th and Constitution Avenue NW., Washington, DC 20230 (or via the Internet at JJessup@doc.gov).

Written comments and recommendations for the proposed information collection should be sent within 30 days of publication of this notice to Nicholas Fraser, OMB Desk Officer, FAX number (202) 395-5167, or via the Internet at Nicholas_A._Fraser@omb.eop.gov.

Dated: May 21, 2013.
Gwellnar Banks,
Management Analyst, Office of the Chief Information Officer.

[FR Doc. 2013-12417 Filed 5-23-13; 8:45 am]

BILLING CODE 3510-WH-P